NATIONAL AERONAUTICS AND SPACE ADMINISTRATION

[Notice: 24-018]

Information Collection: Remotely Administered Psychoacoustic Test for Advanced Air Mobility Noise Human Response

AGENCY: National Aeronautics and Space Administration (NASA).

ACTION: Notice of new information collection.

SUMMARY: The National Aeronautics and Space Administration, as part of its continuing effort to reduce paperwork and respondent burden, invites the general public and other Federal agencies to take this opportunity to comment on proposed and/or continuing information collections.

DATES: Comments are due by May 14, 2024.

ADDRESSES: Written comments and recommendations for this information collection should be sent within 60 days of publication of this notice to www.reginfo.gov/public/do/PRAMain. Find this particular information collection by selecting “Currently under Review—Open for Public Comments” or by using the search function.

FOR FURTHER INFORMATION CONTACT: Requests for additional information or copies of the information collection instrument(s) and instructions should be directed to NASA PRA Clearance Officer, Bill Edwards-Bodmer, NASA Headquarters, 300 E Street SW, JF0000, Washington, DC 20546, phone 757-864-7998, or email hq-ocio-pra-program@mail.nasa.gov.

SUPPLEMENTARY INFORMATION:

I. Abstract

Advanced Air Mobility (AAM)/Urban Air Mobility (UAM) aircraft are expected to form a new transportation system to move people and cargo between places previously not served or underserved by aviation. Representative AAM/UAM vehicles involve the use of electrically driven rotors, and the noise from these air vehicles in communities may restrict their operation. The human response to noise from these vehicles needs to be better understood to help minimize the noise impact. The National Aeronautics and Space Administration (NASA) seeks to execute a remotely administered test on human response to noise, which is called a psychoacoustic test, to acquire response to AAM/UAM vehicle noise. This psychoacoustic test is called the Varied AAM Noise and Geographic Area Response Difference (VANGARD) test. It will utilize the recently developed Remote Psychoacoustic Test Platform of NASA to administer the test to subjects from the public from geographic regions of the United States where AAM/UAM aircraft are likely to operate in the future. Test subjects will participate in an online test application using their own computers and audio playback devices, such as headphones, to listen to calibrated sound stimuli.

The primary research objective of the VANGARD test is to determine if there are statistically significant differences in annoyance between subjects who live in low versus high ambient noise environments; and to determine as a covariate if there is a difference between specific geographical regions. Subjects will be drawn from low and high ambient noise areas of geographical regions within the United States that are likely to see initial AAM/UAM operations, such as Los Angeles, Dallas, and New York City. “High” ambient noise environments are locations proximate to urban centers of each region, while “Low” ambient environments are suburban areas along likely AAM/UAM flight paths within 100 miles of the urban center. NASA will identify the targeted geographic regions and low and high ambient noise environments by Zip Code, based on noise survey data obtained by the National Park Service. NASA will then seek a balanced number of subjects to adequately cover the geographic regions and noise environments.

Meeting this primary research objective is critical to allow NASA to test additional hypothesis research questions based on the obtained data, including:

• Do annoyance responses differ significantly by phase of flight (takeoff, landing, and level cruise) of the AAM/UAM aircraft noise stimuli?

• Do annoyance responses differ significantly as a function of sound level, based on distance from flight operation?

• To what degree are the results explained by objective parameter analyses of the data (e.g., sound quality metrics; spectra; amplitude envelope)?

• To what degree are the results explained by noise sensitivity, obtained via post-experiment questionnaires?

Authority: The National Aeronautics and Space Administration (NASA) is committed to effectively performing the Agency's communication function in accordance with the Space Act Section 203 (a)(3) to “provide for the widest practicable and appropriate dissemination of information concerning its activities and the results thereof,” and to enhance public understanding of, and participation in, the nation's aeronautical and space program in accordance with the NASA Strategic Plan.

II. Methods of Collection

Test subjects will electronically indicate their annoyance rating to test AAM/UAM aircraft noise stimuli into an interface displayed on their own computers.

III. Data

Title: Varied Advanced air mobility Noise and Geographic Area Response Difference Test.

OMB Number: 2700-new.

Type of review: New collection.

Affected Public: Individuals and households.

Estimated Annual Number of Activities: 1.

Estimated Number of Respondents per Activity: 360.

Annual Responses: 360.

Estimated Time per Response: 1 hour.

Estimated Total Annual Burden Hours: 360 hours.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

William Edwards-Bodmer,
NASA PRA Clearance Officer.

[FR Doc. 2024-05569 Filed 3-14-24; 8:45 am]

BILLING CODE 7510-13-P